DEPARTMENT OF COMMERCE

Foreign-Trade Zones Board

[B-47-2023]

Foreign-Trade Zone (FTZ) 183, Notification of Proposed Production Activity; Flextronics America, LLC; (Automatic Data Processing Machines); Austin, Texas

Flextronics America, LLC submitted a notification of proposed production activity to the FTZ Board (the Board) for its facility in Austin, Texas within Subzone 183C. The notification conforming to the requirements of the Board's regulations (15 CFR 400.22) was received on July 28, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: mass data storage units; various boards (logic; midplane; backplane); riser cards; structural frames and structural enclosures for mass data storage units; internal component support units; network switches; network adapters; network switch chassis; firewalls; IoT network security appliances; and, centralized network and firewall management appliances (duty rates are duty-free).

The proposed foreign-status materials and components include: clay desiccants; plastic components (labels; packaging; dust covers; insulators; bags for packaging); die cut polyurethane foams; pallet strap protectors; electrostatic discharge antistatic bags; cord organizers; kraft tape; pack boxes (cardboard; corrugated cardboard); paper components (labels; non-corrugated boxes; printed labels); printed instruction sheets; stainless steel metal components (screws; bolts; socket screws; hex screws; nuts; standoffs; washers; brackets; structural frames and structural enclosures for mass data storage units; contacts); steel components (springs; buttons); cooling fans for multiple disk drive storage units; various drives (hard disk; serial advanced technology attachment (SATA) solid state; flash storage); dual controller base arrays; dual in-line memory modules; various boards (logic (finished; unfinished); midplane; backplane; bare); riser cards; internal component support units; transformers; power supply units; power inductors; ferrite beads and bead filters; switches (network; push button); optical transceivers; adapters (fabric; ethernet); network interface cards; network switch chassis; loudspeakers for automatic data processing machines; software; capacitors (tantalum; aluminum electrolytic; multilayer ceramic chip; polymer); supercapacitors; flat chip resistors; fuses; resettable fuses; switches; connectors (printed circuit board; jumper wire); ethernet jacks; pin guides; Zener diodes; diodes; transistors; transistor chips; light-emitting diodes; mounted piezoelectric crystal oscillators; integrated circuits (microprocessor; dynamic random access memory (DRAM); static random access memory (SRAM); electrically erasable programmable read-only memory (EEPROM); flash memory; power management; programable logic; clock; switch; multiplexer; microprocessor); firewall or network security appliance components (printed circuit boards; chassis assemblies); and, cables (coaxial; ethernet; passive SFP+; power) (duty rate ranges from duty-free to 8.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is September 11, 2023.

A copy of the notification will be available for public inspection in the “Online FTZ Information System” section of the Board's website.

For further information, contact Juanita Chen at juanita.chen@trade.gov.

Dated: July 28, 2023.
Elizabeth Whiteman,
Executive Secretary.

[FR Doc. 2023-16458 Filed 8-1-23; 8:45 am]

BILLING CODE 3510-DS-P